DEPARTMENT OF THE TREASURY

Customs Service

19 CFR Part 177

[T.D. 02-49]

RIN 1515-AC56

Administrative Rulings

AGENCY: Customs Service, Department of the Treasury.

ACTION: Final rule; correction.

SUMMARY: This document makes two corrections to the document published in the Federal Register on August 16, 2002, as T.D. 02-49 which set forth final amendments to those provisions of the Customs Regulations that concern the issuance of administrative rulings and related written determinations and decisions on prospective and current transactions arising under the Customs and related laws.

EFFECTIVE DATE: These corrections are effective August 16, 2002.

FOR FURTHER INFORMATION CONTACT: John Elkins, Textiles Branch, Office of Regulations and Rulings (202-572-8790).

SUPPLEMENTARY INFORMATION:

Background

On August 16, 2002, Customs published in the Federal Register (67 FR 53483) T.D. 02-49 to set forth final amendments to those provisions of the Customs Regulations that concern the issuance of administrative rulings and related written determinations and decisions on prospective and current transactions arising under the Customs and related laws. The regulatory changes involve primarily the addition of a new § 177.12 to set forth procedures regarding the modification or revocation of rulings on prospective transactions, internal advice decisions, protest review decisions, and treatment previously accorded by Customs to substantially identical transactions. The amendments are in response to statutory changes made to the administrative ruling process by section 623 of the Customs Modernization provisions of the North American Free Trade Agreement Implementation Act and take effect on September 16, 2002.

This document makes two corrections to cross-reference citations within paragraphs (c) and (d) of § 177.12.

Corrections of Publication

The document published in the Federal Register as T.D. 02-49 on August 16, 2002 (67 FR 53483) is corrected as set forth below.

§ 177.12 [Corrected]

1. On page 53498, in the first column, in § 177.12, the first sentence of paragraph (c)(2)(ii) is corrected by removing the reference “§ 177.19” and adding, in its place, the reference “§ 177.9”.

2. On page 53498, in the second column, in § 177.12, paragraph (d)(1)(viii) is corrected by removing the reference “§ 177.22 of this part” and adding, in its place, the reference “§ 177.10(c)”.

Dated: August 20, 2002.
Harold Singer,
Chief, Regulations Branch.

[FR Doc. 02-21636 Filed 8-23-02; 8:45 am]

BILLING CODE 4820-02-P